DEPARTMENT OF HEALTH AND HUMAN SERVICES

Substance Abuse and Mental Health Services Administration

Fiscal Year (FY) 2022 Notice of Supplemental Funding Opportunity

AGENCY: Substance Abuse and Mental Health Services Administration, HHS.

ACTION: Notice of Intent to award supplemental funding to the Prevention Technology Transfer Centers (PTTC) National Coordinating Center (NCC) Funding Opportunity Announcement SP-19-001 grant recipient funded in FY 2018.

SUMMARY: This notice is to inform the public that the Substance Abuse and Mental Health Services Administration (SAMHSA) is supporting an administrative supplement (in scope of the parent award) up to $450,000 (total funding) for one-year to the PTTC-NCC recipient. This recipient was funded in FY 2018 under the Prevention Technology Transfer Centers (PTTC) Cooperative Agreements Funding Opportunity SP-19-001 with a project end date of April 30, 2023. The PTTC-NCC will develop a training curriculum for preventionists based on the Prevention Core Competencies to address the workforce needs of entry-level and mid-level preventionists. This training curriculum will build upon and complement existing workforce training curricula and resources (e.g., Substance Abuse Prevention Specialist Training, IC&RC guidebook).

The required activities for this supplement are as follows:

1. Collaborate with interested stakeholders (e.g., National Association of State Alcohol and Drug Abuse Directors, Community Anti-Drug Coalitions of America, Society for Prevention Research) to develop the curriculum outline and training curriculum for entry-level and mid-level preventionists as well as serve as field reviewers and pilot test sites.

2. Develop an evaluation plan to assess the effectiveness of the training curriculum once it is deployed in the field. Training delivery must be available in virtual and in-person environments.

3. Develop a training of trainers (ToT) curricula, as appropriate, and identify supplemental TA services to be provided as follow-up. The NCC will develop a strategy to deploy this training with the aim of training 5,000 entry-level and mid-level preventionists by the end of FY 2023.

4. In coordination with SAMHSA Regional Offices and the National Prevention Network Coordinators, strategize regional deliveries of the prevention curriculum to complement existing state workforce development programming.

5. Develop a roll-out plan to promote the availability of the curriculum and training opportunities (e.g., social media and other communications resources for use by regional partners) and reduce barriers to training access. Conduct “real world” testing of the curriculum with diverse populations.

This is not a formal request for application. Assistance will only be provided to the one eligible PTTC-NCC based on the receipt of a satisfactory application and associated budget that is approved by a review group.

Funding Opportunity Title: FY 2018 Prevention Technology Transfer Centers (PTTC) Cooperative Agreements Funding Opportunity SP-19-001.

Assistance Listing Number: 93.243.

Authority: Section 509 (42 U.S.C. 290bb-4) of the Public Health Service Act, as amended.

Justification: Eligibility for this supplemental funding is limited to the PTTC-NCC grant recipient funded in FY 2018 from the PTTC Cooperative Agreements funding opportunity SP-19-001. This organization has the overarching coordinating responsibilities and is uniquely capable of developing training resources that aide the 10 regional PTTCs, the PTTC Hispanic and Latino and the PTTC Tribal Affairs Centers in their work with constituents and grantees under their purview. Specifically, the PTTC-NCC is uniquely capable of developing a training curriculum for preventionists based on the Prevention Core Competencies.

FOR FURTHER INFORMATION CONTACT: Thia Walker, DrPH, Substance Abuse and Mental Health Services Administration, 5600 Fishers Lane, Rockville, MD 20857, telephone (240) 276-1835; email: thia.walker@samhsa.hhs.gov.

Carlos Graham,
Reports Clearance Officer.

[FR Doc. 2022-09867 Filed 5-6-22; 8:45 am]

BILLING CODE 4162-20-P